DEPARTMENT OF AGRICULTURE

Submission for OMB Review; Comment Request

October 6, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Vegetable Surveys.

OMB Control Number: 0535-0037.

Summary of Collection: The primary function of the National Agricultural Statistics (NASS) is to prepare and issue current official state and national estimates of crop and livestock production. Vegetable estimates are an integral part of this function. The vegetable program is complex in that some crops are processing only, some are fresh market only, and others are dual crops (both processing and fresh market). Vegetable processors are surveyed the first week of April for their intended acreage of vegetables for processing and the first week of July for acreage contracted. The fresh market vegetable program consists of weekly estimates during the growing season for tomatoes in Florida. NASS will collect information using surveys.

Need and Use of the Information: NASS will collect information to estimate acreage planted and harvested, production, price, and utilization for the various crops. The estimates provide vital statistics for growers, processors, and marketers to use in making production and marketing decisions.

Description of Respondents: Farms; business or other for-profit.

Number of Respondents: 31,120.

Frequency of Responses: Reporting: Annually; other (seasonally).

Total Burden Hours: 4,640.

National Agricultural Statistics Service

Title: 2009 Census of Horticultural Specialties.

OMB Control Number: 0535-0236.

Summary of Collection: The census of horticultural specialties is one of a series of census special studies for the Census of Agriculture which provides more detailed statistics relating to a specific subject. The census of horticultural specialties is an integral part of the 2007 Census of Agriculture and is authorized by the Food, Conservation, and Energy Act of 2008 (Title X—Horticulture and Organic Agriculture). The Census of Horticultural Specialties has been conducted approximately every 10 years to show how the industry has changed over time. It was last conducted in 1998 for the reference period of 1997. Horticultural crops are high value crops which farmers could grow to diversify their farming operations. Using data from the 2007 Census of Agriculture, NASS will collect information from every respondent who reported production and sales of $10,000 or more of horticultural specialty crops, and is still in business in 2009.

Need and Use of the Information: NASS will collect information on the number and value of plants grown and sold, the value of land, buildings, machinery and equipment, selected production expenses, irrigation, marketing channels, hired labor, area used for production, and type of structure. Horticulture is one of the fastest growing segments in the agriculture sector. The primary objective of the horticultural specialties census is to obtain a comprehensive and detailed picture of the horticultural sector of the economy. Without the census of horticultural specialties, government policy makers and planners would lack valuable information needed to accomplish their missions.

Description of Respondents: Farms; business or other for-profit.

Number of Respondents: 37,700.

Frequency of Responses: Reporting: One time.

Total Burden Hours: 46,405.

Charlene Parker,
Departmental Information Collection Clearance Officer.

[FR Doc. E9-24487 Filed 10-9-09; 8:45 am]

BILLING CODE 3410-20-P